FEDERAL COMMUNICATIONS COMMISSION

47 CFR Part 73

[DA 26-135; MB Docket No. 25-298; FR ID 330662]

Radio Broadcasting Services; Various Locations

AGENCY: Federal Communications Commission.

ACTION: Final rule.

SUMMARY: This document amends the Table of FM Allotments, of the Federal Communications Commission's (Commission) rules, by substituting Channel 277A for vacant Channel 221A at Hamilton, Alabama; Channel 261B1 for vacant Channel 261B at Coalinga, California; Channel 289A for vacant Channel 291A at Rocksprings, Texas; Channel 261A for vacant Channel 221A at Silverton, Texas; and Channel 281C2 for vacant Channel 260C2 at Spur, Texas. The existing vacant FM channels are not in compliance with the minimum distance separation requirements of the Federal Communications Commission (Commission) rules, and vacant Channel 261B at Coalinga is also not in compliance with the city-grade coverage requirements of the Commission's rules. The window period for filing applications for these vacant FM allotments will not be opened at this time. Instead, the issue of opening these allotments for filing will be addressed by the Commission in subsequent order. See Supplementary Information.

DATES: Effective March 26, 2026.

FOR FURTHER INFORMATION CONTACT: Rolanda F. Smith, Media Bureau, (202) 418-2054, Rolanda-Faye.Smith@fcc.gov.

SUPPLEMENTARY INFORMATION: This is a synopsis of the Commission's Report and Order, adopted February 9, 2026, and released February 9, 2026. The full text of this Commission decision is available online at https://apps.fcc.gov/ecfs/. The full text of this document can also be downloaded in Word or Portable Document Format (PDF) at https://www.fcc.gov/edocs. This document does not contain information collection requirements subject to the Paperwork Reduction Act of 1995, Public Law 104-13. The Commission will send a copy of this Report and Order in a report to Congress and the Government Accountability Office pursuant to the Congressional Review Act, see 5 U.S.C. 801(a)(1)(A).

Channel 277A can be allotted to Hamilton, Alabama consistent with the minimum distance separation requirements of 47 CFR 73.207, provided there is a site restriction of 7 kilometers (4.4 miles) north of the community at reference coordinates 34-11-50 NL and 88-01-37 WL. Channel 261B1 can be allotted to Coalinga, California consistent with the minimum distance separation requirements of 47 CFR 73.207, without a site restriction at the community's reference coordinates 36-8-23 NL and 120-21-37 WL. Channel 289A can be allotted to Rocksprings, Texas consistent with the minimum distance separation requirements of 47 CFR 73.207, provided there is a site restriction of 12.1 kilometers (7.5 miles) west of the community at reference coordinates 29-59-52 NL and 100-20-10 WL. Channel 261A can be allotted to Silverton, Texas consistent with the minimum distance separation requirements of 47 CFR 73.207, provided there is a site restriction of 11 kilometers (6.8 miles) northwest of the community at reference coordinates 34-33-34 NL and 101-21-13 WL. Channel 281C2 can be allotted to Spur, Texas consistent with the minimum distance separation requirements of 47 CFR 73.207, provided there is a site restriction of 22.5 kilometers (14 miles) east of the community at reference coordinates 33-26-51 NL and 100-36-59 WL.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, amend table 1 to paragraph (b) by:

a. Revising the entry for “Hamilton” under Alabama;

b. Revising the entry for “Coalinga” under California; and

c. Under Texas:

i. Revising the entries for “Rocksprings” and “Silverton”; and

ii. Adding in alphabetical order the entry for “Spur”.

The revisions and addition read as follows:

§ 73.202 Table of Allotments.

* * * * *

(b) Table of FM Allotments.

Table 1 to Paragraph (b)
[U.S. States]
| Channel No.
* * * * *
Alabama
* * * * *
Hamilton | 277A
* * * * *
California
* * * * *
Coalinga | 247A, 261B1
* * * * *
Texas
* * * * *
Rocksprings | 289A
* * * * *
Silverton | 261A
* * * * *
Spur | 281C2
* * * * *

[FR Doc. 2026-02857 Filed 2-11-26; 8:45 am]

BILLING CODE 6712-01-P